DEPARTMENT OF THE TREASURY

Public Meeting of the President's Advisory Panel on Federal Tax Reform

AGENCY: Department of the Treasury.

ACTION: Notice of meeting.

SUMMARY: This notice advises all interested persons of the initial public meeting of the President's Advisory Panel on Federal Tax Reform.

Background: Executive Order 13369 (January 7, 2005) established the President's Advisory Panel on Federal Tax Reform. The Order provides that the purpose of the Advisory Panel shall be to submit to the Secretary of the Treasury a report with revenue neutral policy options for reforming the Federal Internal Revenue Code. The options should (a) simplify Federal tax laws to reduce the costs and administrative burdens of compliance with such laws; (b) share the burdens and benefits of the Federal tax structure in an appropriately progressive manner while recognizing the importance of homeownership and charity in American society; and (c) promote long-run economic growth and job creation, and better encourage work effort, saving, and investment, so as to strengthen the competitiveness of the United States in the global marketplace. At least one option submitted by the Advisory Panel should use the Federal income tax as the base for its recommended reforms.

Purpose: This is the first meeting of the Advisory Panel. The meeting will include background information presentations concerning the Federal tax system.

Comments: Interested parties are invited to attend the meeting; however, no public comments will be heard at this meeting. The public will be provided additional opportunities to submit comments regarding issues of tax reform at later dates. Any written comments with respect to this meeting must be submitted by mail to The President's Advisory Panel on Federal Tax Reform, 1440 New York Avenue, NW., Suite 2100, Washington, DC 20220. An electronic address will be provided as soon as it is available. All written comments will be made available to the public.

Records: Records are being kept of Advisory Panel proceedings and will be available at the Internal Revenue Service's FOIA Reading Room at 1111 Constitution Avenue, NW., Room 1621, Washington, DC 20024. The Reading Room is open to the public from 9 a.m. to 4 p.m., Monday through Friday except holidays. The public entrance to the reading room is on Pennsylvania Avenue between 10th and 12th streets. The phone number is (202) 622-5164 (not a toll-free number). Advisory Panel documents, including meeting announcements, agendas, and minutes, will also be available on the Advisory Panel's Web site, which is currently under construction.

DATES: The meeting will be held on Wednesday, February 16, 2005, at 10 a.m.

ADDRESSES: The meeting will be held at the Ronald Reagan Building & International Trade Center Amphitheater, Concourse Level, 1300 Pennsylvania Avenue, NW., Washington, DC 20004. Seating will be available to the public on a first-come, first-served basis.

FOR FURTHER INFORMATION CONTACT: Mark S. Kaizen, Designated Federal Officer, (202) 283-7900 (not a toll-free call).

Dated: January 28, 2005.
Mark S. Kaizen,
Designated Federal Officer.

[FR Doc. 05-1961 Filed 1-31-05; 8:45 am]

BILLING CODE 4810-25-P